DEPARTMENT OF JUSTICE

Antitrust Division

Notice Pursuant to the National Cooperative Research and Production Act of 1993—FDI Cooperation LLC

Notice is hereby given that, on June 6, 2012, pursuant to Section 6(a) of the National Cooperative Research and Production Act of 1993, 15 U.S.C. 4301 et seq. (“the Act”), FDI Cooperation LLC (“FDI”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: FDT Group, AISBL, Jodoigne, BELGIUM; Fieldbus Foundation, Austin, TX; HART Communication Foundation, Austin, TX; PROFIBUS Nutzerorganisation e. V., Karlsruhe, GERMANY; OPC Foundation, Scottsdale, AZ; ABB Automation GmbH, Mannheim, GERMANY; Emerson Process Management LLLP, Round Rock, TX; Endress+Hauser Process Solutions AG, Reinach, SWITZERLAND; Honeywell International Inc., Phoenix, AZ; Invensys Systems Inc., Foxboro, MA; Siemens AG, Karlsruhe, GERMANY; Yokogawa Electric Corporation, Tokyo, JAPAN; ifak e. V., Magdeburg, GERMANY; and Smar Equipamentos Industriais Ltda., Sao Paulo, BRAZIL.

The general area of FDI's planned activity is to develop, distribute, and maintain the FDI Specification and FDI Tools and Components and to maintain the IEC EDDL specification (IEC 61804-3 and -4). The parties want the FDI Specifications itself to be independent of any specific communication protocol and to be applied in conjunction with various communication and configuration technologies provided by the foundation participants (FDT Group, AISBL; Fieldbus Foundation; HART Communication Foundation; PROFIBUS Nutzerorganisation e. V.; and OPC Foundation) to their members. (These foundations own the joint venture; the remaining participants are not owners.) To support the adoption and implementation of the FDI Specification, and ensure interoperability and reduce implementation costs, the Company will develop and license or have licensed the FDI Tools and Components. The FDI Specification shall be marketed, promoted, and licensed to third parties through FDI's member foundations. FDI currently includes four working groups: (i) Specifications: This working group develops the technical specifications. The FDI Specification created by this working group has been submitted to the IEC standardization process. (ii) Tools and Components: This working group focuses on developing the requirements for the tools that will be created. The output of this working group is a set of requirements and a “Request for Proposal” (RFP) that will be issued to interested parties that will bid on the work. This working group will facilitate review of those bids, and after the deliverables are received, will facilitate acceptance testing. (iii) Tools and Architecture: This working group will manage the development of those tools and their incorporation into a complete toolset. (iv) EDDL Maintenance: The EDDL team was established to help IEC SC65A WG7 in maintaining the standards (IEC 61804 “EDDL”) on which the FDI Specifications are based. Further information about FDI is available at http://www.fdi-cooperation.com/.

Patricia A. Brink,
Director of Civil Enforcement, Antitrust Division.

[FR Doc. 2012-16509 Filed 7-5-12; 8:45 am]

BILLING CODE P